FEDERAL MARITIME COMMISSION

[Docket No. 18-02]

Notice of Filing of Complaint and Assignment

Tarik Afif Chaouch v. Demetrios Air Freight Co., Demetrios International Shipping Co., Inc., and Troy Container Line Ltd.

Notice is given that a complaint has been filed with the Federal Maritime Commission (Commission) by Tarik Afif Chaouch, hereinafter “Complainant,” against Demetrios Air Freight Co., Demetrios International Shipping Co., Inc., and Troy Container Line LTD., hereinafter “Respondents.” Complainant states it hired the Respondents to ship two cars to Algiers, Algeria.

Complainant alleges that due to an error the Respondents made on the bill of lading, the shipment was “. . . impounded in Algiers, Algeria for approximately four months . . .” Complainant alleges that this error resulted in costs for which Complainant would not have otherwise been responsible. Complainant alleges that it is “. . . subject to injury as a direct result of the violations by respondent of sections 46 U.S.C. code § 41104 and more specifically paragraphs 4 and 5.”

Complainant seeks reparations in the amount of $21,086.70, and other relief. The full text of the complaint can be found in the Commission's Electronic Reading Room at www.fmc.gov/18-02/.

This proceeding has been assigned to the Office of Administrative Law Judges. The initial decision of the presiding officer in this proceeding shall be issued by January 18, 2019, and the final decision of the Commission shall be issued by August 1, 2019.

Rachel E. Dickon,
Assistant Secretary.

[FR Doc. 2018-01179 Filed 1-22-18; 8:45 am]

BILLING CODE 6731-AA-P